DEPARTMENT OF THE TREASURY

Internal Revenue Service

Open Meeting of the Joint Committee of the Taxpayer Advocacy Panel

AGENCY: Internal Revenue Service (IRS) Treasury.

ACTION: Notice.

SUMMARY: An open meeting of the Joint Committee of the Taxpayer Advocacy Panel will be conducted.

DATES: The meeting will be held Friday, September 5, 2003, 8 a.m. to 5 p.m., and Saturday, September 6, 2003, 8 a.m. to noon at the Hotel Teatro, 1100 14th Street, Denver, CO 80202.

FOR FURTHER INFORMATION CONTACT: Barbara Toy at 1-888-912-1227, or 414-297-1611.

SUPPLEMENTARY INFORMATION: Notice is hereby given pursuant to Section 10(a)(2) of the Federal Advisory Committee Act, 5 U.S.C. App. (1988) that an open meeting of the Joint Committee of the Taxpayer Advocacy Panel (TAP) will be held Friday, September 5, 2003, 8 a.m. to 5 p.m., and Saturday, September 6, 2003, 8 a.m. to noon in the Hotel Teatro, 1100 14th Street, Denver, CO 80202. If you would like to have the Joint Committee of TAP consider a written statement, please call 1-888-912-1227 or 414-297-1611, or write Barbara Toy, TAP Office, MS 1006MIL, 310 West Wisconsin Avenue, Milwaukee, WI 53203-2221, or FAX to 414-297-1623.

The agenda will include the following: mid-year assessment reports, discussion of various administrative issues, discussion and prioritization of issues elevated to Joint Committee, and discussion of next meeting.

Dated: August 7, 2003.
Tersheia Carter,
Acting Director, Taxpayer Advocacy Panel.

[FR Doc. 03-21360 Filed 8-19-03; 8:45 am]

BILLING CODE 4830-01-P